DEPARTMENT OF HEALTH AND HUMAN SERVICES

Administration for Children and Families

Proposed Information Collection Activity; Comment Request

Title: Migrant and Seasonal Head Start Study.

OMB No.: New Collection.

Description: The Office of Planning, Research and Evaluation (OPRE), Administration for Children and Families (ACF), U.S. Department of Health and Human Services, is proposing an information collection activity for the Migrant and Seasonal Head Start (MSHS) Study.

The MSHS Study is a nationally representative study that will describe the characteristics and experiences of the children and families who enroll in MSHS and the practices and services of the MSHS programs that serve them. The findings will provide essential up-to-date information to the Office of Head Start, other federal government agencies, local MSHS programs, and the public. The study will be the first national MSHS study to include direct child assessments, which will provide valuable information about MSHS children that programs can use to inform program, center and classroom practices.

Data collection will involve mail surveys to selected MSHS center directors and all MSHS program directors nationwide about operational characteristics, program- and center-level policies and practices, and services and resources offered to MSHS families. The study will also conduct on-site data collection with children, parents, teachers, and classrooms in a nationally-representative sample of MSHS centers. The on-site data collection will include classroom observations, teacher surveys, child reports and child assessments to obtain information on classroom instruction and practices, children's abilities and families' well-being.

Respondents: MSHS program directors, center directors, teachers, assistant teachers, parents, and children.

Annual Burden Estimates
Instrument | Total number of respondents | Number of responses per respondent | Average burden hours per response | Estimated annual burden hours
Program Director survey | 53 | 1 | 0.67 | 36
Center Director survey | 253 | 1 | 0.67 | 170
Call script for Program Directors | 24 | 1 | 1 | 24
Form for Program Directors to verify key information for selected centers | 24 | 1 | 0.5 | 12
Call script for Center Directors | 53 | 1 | 1 | 53
Call script for On Site Coordinators | 53 | 1 | 1 | 53
Classroom sampling form | 53 | 1 | 0.5 | 27
Data collection coordination efforts | 53 | 1 | 20 | 1,060
Child roster form | 53 | 3 | 0.25 | 40
Teacher survey | 159 | 1 | 0.67 | 107
Teacher child report | 159 | 8 | 0.17 | 216
Assistant Teacher survey | 159 | 1 | 0.33 | 52
Parent consent form | 1,018 | 1 | 0.25 | 255
Child assessments (preschoolers and older toddlers only) | 848 | 1 | 0.67 | 568
Parent interview (including Parent child report) | 1,018 | 1 | 1 | 1,018
Estimated Total Annual Burden Hours: |  |  |  | 3,689

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF Certifying Officer.

[FR Doc. 2016-19611 Filed 8-16-16; 8:45 am]

BILLING CODE 4184-22-P